FEDERAL COMMUNICATIONS COMMISSION

Sunshine Act Meeting; Open Commission Meeting Thursday, September 17, 2015

September 10, 2015.

The Federal Communications Commission will hold an Open Meeting on the subjects listed below on Thursday, September 17, 2015, which is scheduled to commence at 10:30 a.m. in Room TW-C305, at 445 12th Street SW., Washington, DC.

Item no. | Bureau | Subject
1 | MEDIA | TITLE: Amendment of Section 73.1216 of the Commission's Rules Related to Broadcast Licensee-Conducted Contests (MB Docket No. 14-226).
|  | SUMMARY: The Commission will consider a Report and Order to provide broadcasters greater flexibility in their disclosure of contest terms.
2 | PUBLIC SAFETY | TITLE: Improving Outage Reporting for Submarine Cables and Enhancing Submarine Cable Outage Data (GN Docket No. 15-206).
|  | SUMMARY: The Commission will consider a Notice of Proposed Rulemaking that proposes to require submarine cable licensees to report outages.

* * * * *

Consent Agenda

The Commission will consider the following subjects listed below as a consent agenda and these items will not be presented individually:

Item no. | Bureau | Subject
1 | MEDIA | TITLE: Radio Training Network, Application for a New Noncommercial FM Station at Dillon, South Carolina. SUMMARY: The Commission will consider a Memorandum Opinion and Order concerning an Application for Review filed by several joint petitioners seeking review of a Media Bureau Order granting Radio Training Network a New Noncommercial FM Station.
2 | MEDIA | TITLE: University of San Francisco (Assignor) and Classical Public Radio Network LLC (Assignee), Application for Consent to Assignment of License Station KOSC(FM), San Francisco, CA.
|  | SUMMARY: The Commission will consider a Memorandum Opinion and Order concerning an Applications for Review filed by Ted Hudacko and Friends of KUSF seeking review of a letter by the Media Bureau Order and Consent Decree approving an assignment application.
3 | MEDIA | TITLE: Centennial Licensing, LLC, Assignor and Mel Wheeler, Inc., Assignee, Assignment of License WLNI(FM), Lynchburg, Virginia.
|  | SUMMARY: The Commission will consider a Memorandum Opinion and Order concerning an Application for Review filed by 3 Daughters Media, Inc. seeking review of a Media Bureau Order granting an assignment application.
4 | MEDIA | TITLE: Center for Emerging Media, Inc., et al, Application for a Construction Permit for a New LPFM Station at Baltimore, Maryland.
|  | SUMMARY: The Commission will consider a Memorandum Opinion and Order concerning an Application for Review filed by Loyola University of Maryland seeking review of a Commission Public Notice analyzing LPFM MX Group 198.
5 | MEDIA | TITLE: Texas Grace Communications, Request to Toll the Period to Construct Unbuilt Station DKRZB(FM), Archer City, Texas.
|  | SUMMARY: The Commission will consider a Memorandum Opinion and Order concerning an Application for Review filed by Texas Grace Communications seeking review of a Media Bureau decision.
6 | MEDIA | TITLE: Christian Charities Deliverance Church, Application for a Construction Permit for a New LPFM Station at Sayville, New York; By Faith Ministries Association, Application for a Construction Permit for a New LPFM Station at Sayville, New York; Rooftop Productions, Application for a Construction Permit for a New LPFM Station at Seattle, Washington; and Massasoit Community College, Application for a Construction Permit for a New LPFM Station at Brockton, Massachusetts.
|  | SUMMARY: The Commission will consider a Memorandum Opinion and Order concerning Applications for Review filed by Christian Charities Deliverance Church, By Faith Ministries Association, Rooftop Productions and Massasoit Community College seeking review of application dismissals by the Media Bureau.
7 | MEDIA | TITLE: Royce International Broadcasting Company, Assignor, and Entercom Communications Corp., Assignee, Application for Consent to the Assignment of License of Station KWOD(FM), Sacramento, CA.
|  | SUMMARY: The Commission will consider a Memorandum Opinion and Order concerning an Application for Review filed by Royce International Broadcasting Company seeking review of a Media Bureau decision granting an assignment application.
8 | MEDIA | TITLE: Hispanic Broadcasting Institute, Inc., Application for New LPFM Station at Lawrence, MA.
|  | SUMMARY: The Commission will consider a Memorandum Opinion and Order concerning an Application for Review filed by Hispanic Broadcasting Institute, Inc. seeking review of a Media Bureau dismissal of its LPFM station application.
9 | MEDIA | TITLE: Tango Radio, LLC, Applications for License to Cover Construction of DKNOS(FM), Albany Texas; DKANM(FM), Skyline-Ganipa, New Mexico; and DKKUL-FM, Trinity, Texas; and South Texas FM Investments, LLC, Applications for License to Cover Construction of DKAHA(FM), Olney, Texas, and DKXME(FM), Wellington, Texas.
|  | SUMMARY: The Commission will consider a Memorandum Opinion and Order concerning Applications for Review filed by Tango Radio, LLC and South Texas FM Investments, LLC seeking review of two Media Bureau decisions.
10 | MEDIA | TITLE: Pandora Radio LLC, Petition for Declaratory Ruling Under Section 310(b)(4) of the Communications Act of 1934, as Amended; Application of Connoisseur Media Licenses, LLC for Consent to Assign Station KXMZ(FM), Box Elder, South Dakota, to Pandora Radio LLC (MB Docket No. 14-109).
|  | SUMMARY: The Commission will consider an Order on Reconsideration concerning two Petitions for Reconsideration filed by the American Society of Composers, Authors and Publishers seeking review of a Commission Declaratory Ruling and a Media Bureau grant of an assignment application.
11 | MEDIA | TITLE: Hill Broadcasting Company, Inc., Request for Reinstatement of License and Application for Renewal of License for Station DKTVG-TV, Grand Island, NE.
|  | SUMMARY: The Commission will consider a Memorandum Opinion and Order concerning an Applications for Review Hill Broadcasting Company, Inc. seeking review of a Media Bureau renewal application dismissal.
12 | CONSUMER AND GOVERNMENTAL AFFAIRS | TITLE: San Fernando Cathedral of San Antonio, Texas, (SFC), Application for Review (CG Docket No. 06-181).
|  | SUMMARY: The Commission will consider a Memorandum Opinion and Order addressing an Application for Review filed by SFC seeking review of the Bureau's dismissal of SFC's petition for exemption from the Commission's closed captioning requirements.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services, call (703) 993-3100 or go to www.capitolconnection.gmu.edu.

Federal Communications Commission.
Marlene H. Dortch,
Secretary.

[FR Doc. 2015-23274 Filed 9-11-15; 4:15 pm]

BILLING CODE 6712-01-P